DEPARTMENT OF HOMELAND SECURITY

Coast Guard

33 CFR Part 165

[Docket No. USCG-2014-0985]

Safety Zone; David Beahm; Hudson River, New York, NY

AGENCY: Coast Guard, DHS.

ACTION: Notice of enforcement of regulation.

SUMMARY: The Coast Guard will enforce a safety zone in the Captain of the Port (COTP) New York Zone on the specified date and time. This action is necessary to ensure the safety of vessels and spectators from hazards associated with fireworks displays. During the enforcement period, no person or vessel may enter the safety zone without permission from the COTP or a designated representative.

DATES: The regulation for the safety zone described in 33 CFR 165.160 will be enforced on December 18, 2014 from 6:30 p.m. to 7:45 p.m.

FOR FURTHER INFORMATION CONTACT: If you have questions on this notice, call or email Lieutenant Douglas Neumann, Coast Guard; telephone 718-354-4154, email Douglas.W.Neumann@uscg.mil.

SUPPLEMENTARY INFORMATION: The Coast Guard will enforce the safety zone listed in 33 CFR 165.160 on the specified date and time as indicated in the Table below. This regulation was published in the Federal Register on November 9, 2011 (76 FR 69614).

Table
1. David Beahm Fireworks, Jersey City, Hudson River Safety Zone, 33 CFR 165.160(5.11) | • Launch Site: A barge located in approximate position 40°42′37.3″ N 074°01′41.6″ W (NAD 1983), approximately 420 yards east of Morris Canal Little Basin. This Safety Zone is a 360-yard radius from the barge. • Date: December 18, 2014. • Time: 06:30 p.m.-07:45 p.m.

Under the provisions of 33 CFR 165.160, No persons or vessels will be allowed to enter into, transit through, or anchor in the safety zone without the permission of the COTP or a designated representative. Vessels wishing to transit through the safety zone may contact a designated representative via VHF channel 13 or 16 to request permission. Vessels may transit outside the safety zone but may not anchor, block, loiter in, or impede the transit of other vessels. The Coast Guard may be assisted by other Federal, State, or local law enforcement agencies in enforcing this regulation.

This notice is issued under authority of 33 CFR 165.160(a) and 5 U.S.C. 552(a). In addition to this notice in the Federal Register, the Coast Guard will provide mariners with advanced notification of enforcement periods via the Local Notice to Mariners and marine information broadcasts. If the COTP determines that the safety zone need not be enforced for the full duration stated in this notice, a Broadcast Notice to Mariners may be used to grant general permission to enter the safety zone.

Dated: November 19, 2014.
G. Loebl,
Captain, U.S. Coast Guard, Captain of the Port New York.

[FR Doc. 2014-29359 Filed 12-12-14; 8:45 am]

BILLING CODE 9110-04-P